DEPARTMENT OF EDUCATION

[CFDA No.: 84.011]

Title I, Part C—Education of Migratory Children; Correction

AGENCY: Department of Education.

ACTION: Notice of proposed requirements and minimum data elements for an electronic system of records transfer and request for comment; correction.

SUMMARY: On May 28, 2002 a notice of proposed requirements and minimum data elements for an electronic system of records transfer and request for comment was published in the Federal Register (67 FR 36862). Appendix A, published in that document, contained several errors. This document corrects and republishes appendix A: Minimum Data Elements.

FOR FURTHER INFORMATION CONTACT: Alex Goniprow, Office of Elementary and Secondary Education, U.S. Department of Education, 400 Maryland Avenue, SW., room 3E333, Washington, DC 20202-6400. Telephone (202) 260-1205.

Individuals with disabilities may obtain this document in an alternative format (e.g., Braille, large print, audiotape, or computer diskette) on request to the contact person identified in the preceding paragraph.

Electronic Access to This Document

You may view this document, as well as all other Department of Education documents published in the Federal Register, in text or Adobe Portable Document Format (PDF), on the Internet at the following site: www.ed.gov/legislation/FedRegister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www/access.gpo.gov/nara/index.html.

Dated: June 3, 2002.
Susan B. Neuman,
Assistant Secretary for Elementary and, Secondary Education.

Appendix A: Minimum Data Elements

The following table presents the proposed requirements for the minimum data elements that a State shall collect and maintain for the purpose of electronically exchanging, among the States, educational and health information for all migratory students.

The table lists the data elements by: (1) A data element identification number, (2) a code that identifies the primary user function(s) for which the data element is required, (3) the name of the data element, and (4) a data element definition.

In regard to the primary user functions for which a data element is required, the letter “E” indicates that the data element is required to help guidance counselors, school registrars, or migrant education specialists with the timely and efficient enrollment of migratory students in a school in the community in which the children currently reside. The letter “P” indicates that the data element is required to help guidance counselors or migrant education specialists with the proper placement of migratory students into courses and/or programs at the appropriate grade level. The letter “G” indicates that the data element is required to help guidance counselors or migrant education specialists with the provision of academic counseling that supports the completion of courses and the accrual of credits needed for graduation.

In addition, the data elements are grouped into one of five categories of data: (1) Data elements that describe a student, (2) data elements that describe a school or project, (3) data elements that describe the student's graduation plan, (4) data elements that describe a student's course history, and (5) data elements that describe a student's assessment information.

Finally, although the data elements are listed once, a number of the data elements will be used for multiple entries in a migrant student record (e.g., “course title” will be used for each course in which a migratory student is enrolled).

Minimum Data Elements
No. | Use(s) | Data element | Definition
STUDENT INFORMATION
1 | E | Unique Migrant Student Record Number | A unique identification number assigned to a migrant student and his/her record(s).
2 | E | State Student Identification Number | An alternate identification number assigned to a student by a State.
3 | E | Last Name1 | Student's legal last name (paternal).
4 | E | Last Name2 | If appropriate, student's legal last name (maternal). [Note: Provides an option for a hyphenated or double last name.]
5 | E | First Name | A name given to a student at birth, baptism, or during another naming ceremony, or through legal change.
6 | E | Middle Name | A secondary name given to a student at birth, baptism, or during another naming ceremony, or through legal change.
7 | E | Generation | An appendage, if any, used to denote a student's generation in his family (e.g., Jr., Sr., III).
8 | E | Gender | A student's gender. 01 Female. 02 Male.
9 | E | Birth Date | The month, day, and year on which a student was born.
10 | E | Birth Certificate Flag | The evidence by which a student's date of birth is confirmed.
|  |  | 01 Birth certificate—A written statement or form issued by an Office of Vital Statistics verifying the name and birth date of the child as reported by the physician attending at the birth.
|  |  | 02 Other official document (i.e., baptismal or church certificate, physician/hospital certificate, passport, previously verified school record, State-issued ID, driver's license).
|  |  | 03 Self Report—Parent or student reports age, birth date, and place of birth.
11 | E | Birth City | The name of the city in which the student was born.
12 | E | Birth State | The postal abbreviation code for a State (within the United States), Outlying Area, or State (in another country) in which a student was born.
13 | E | Birth Country | The name of the country in which a student was born.
14 | E | Birth/Legal Parent1 Last Name | The last/surname of the natural or adoptive male parent having legal responsibility for a student.
15 | E | Birth/Legal Parent1 First Name | The first name of the natural male parent having legal responsibility for a student.
16 | E | Birth/Legal Parent2 Last Name | The last/surname of the natural or adoptive female parent having legal responsibility for a student.
17 | E | Birth/Legal Parent2 First Name | The first name of the natural or adoptive female parent having legal responsibility for a student.
18 | E | Current Parent/Guardian Last Name | The last/surname of the adult serving as the student's local guardian. [Note: Provides an option for a hyphenated or double last name.].
19 | E | Current Parent/Guardian First Name | The first name of the adult serving as the student's local guardian.
20 | P G | Grade Level | The grade level in which a school/project enrolls a student. 01 Grade 1. 02 Grade 2. 03 Grade 3. 04 Grade 4. 05 Grade 5. 06 Grade 6. 07 Grade 7. 08 Grade 8. 09 Grade 9. 010 Grade 10. 011 Grade 11. 012 Grade 12. 013 Ungraded. 014 Pre-school. 015 Kindergarten. 016 Out-of-School.
21 | E P G | Withdrawal Date | The month, day, year on which a student withdrew from a school or project.
22 | E | Ed Alert Flag | Alert for a special need/educational condition linked with a contact person.
23 | E | Ed Alert Contact | The full, legally accepted, proper name of the Ed Alert contact person.
24 | E | Ed Alert Phone | The Ed Alert contact person's telephone number including the area and extension, if applicable.
25 | E | Med Alert | Alert for a medical/health condition
26 | E | Med Alert Date | Month, day, and year the alert was issued
27 | E | Med Alert Contact | The full, legally accepted, proper name of the Med Alert contact person.
28 | E | Med Alert Phone | The Med Alert contact person's telephone number including the area and extension, if applicable.
29 | E | Immunization Date | The month, day, and year on which a student receives an immunization.
30 | E | Immunization Type | The name of immunization that a student has received.
31 |  | QAD (Qualifying) | The month, day, and year on Arrival Date which the family unit or the student (where the student is the worker) arrived at the place where the qualifying work was sought.
32 |  | QAD From City | The name of the city in which the previous school district is located.
33 |  | QAD From State | The postal abbreviation code for a State (within the United States) or Outlying Area in which the previous school district is located.
34 |  | QAD From Country | The abbreviation code for a country (other than the US) area in which the previous school district is located.
35 |  | QAD To City | The name of the city in which the new school district is located.
36 |  | QAD To State | The postal abbreviation code for a State (within the United States) or Outlying Area in which the new school district is located.
37 |  | Residency Date | The month, day, and year on which the family unit or the student (where the student is the worker) establishes residency in a school district within a State.
38 |  | Termination Date | The month, day, and year on which the student is no longer eligible for the Migrant Education Program.
39 |  | Termination Flag | The reason for the end of student eligibility. 01 Non-migrant status, eligibility expired. 02 Graduated. 03 GED. 04 Dropout. 05 Deceased.
SCHOOL/PROJECT INFORMATION
40 | E P G | School/Facility Identification Code | A unique national code assigned to each school, site, or facility providing educational and/or educationally-related services.
41 | E P G | School Name | The full legally or popularly accepted name of a school (or project providing educational and/or educationally-related services).
42 | E P G | Address1 | Line 1 of the mailing address. The street number and name or post office box number of a school's address.
43 | E P G | Address2 | Line 2 of the mailing address. The building, office, department, room, suite number of a school's address.
44 | E P G | Address3 | Line 3 of the mailing address.
45 | E P G | City | The name of the city in which a school is located.
46 | E P G | District | The full legally or popularly accepted name of a local educational agency (i.e., school district or local operating agency).
47 | E P | State | The postal abbreviation code for a State (within the United States) or Outlying Area in which a school or other facility is located.
48 | E P G | Zip | The five or nine digit zip code portion of a school or other facility's address.
49 | G | Contact Name | The full, legally accepted, proper name of the school or project contact person.
50 | G | Contact Title/Position | The common title or job position of the school or project contact person (i.e., Principal, Guidance Counselor, Federal Program Coordinator, Migrant Specialist, etc.).
51 | E G | Phone | The telephone number of the school or project contact person including the area code and extension, if applicable. Allow for an optional alternate phone number.
52 | E G | Fax | The facsimile number for the school or project including the area code and extension, if applicable. Allow for an optional alternate fax number.
53 | E | Email | The electronic mail (email) address of the school or project contact person or organization.
54 | E P G | Enrollment Date | The month, day, and year on which a student enrolls in a school, project, or State and is eligible to receive instructional or support services during a given session.
55 | P | Enrollment types | The type of school/migrant education project in which instruction and/or support services are provided. 01 Regular School. 02 Regular Term MEP-Funded Supplemental Program. 03 Summer/Intersession MEP-Funded Project. 04 Year Round MEP-funded Project. 05 Residency Only.
56 | P G | Designated School for Graduation Flag | An indicator that designates the school or facility from which a student expects to graduate and is linked with associated school or facility identification fields (i.e., district, city, state, zip code). Only one school may be designated for graduation at any one point in time.
GRADUATION PLAN INFORMATION (SECONDARY STUDENTS ONLY)
57 | G | Graduation Year | The year the student is projected to graduate from high school. [Provided by Designated School of Graduation].
58 | G | Type of Credential | The type of credential that the student expects to receive in recognition of his/her completion of curricular requirements. [Provided by Designated School of Graduation]. 01 Regular diploma. 02 Certificate of attendance/completion. 03 General Educational Development (GED) credential. 04 State-specific diploma (e.g, New York Regents, Texas Minimum Program, etc.).
59 | G | Subject Area Requirements | Number of credits (Carnegie units) required in individual subject areas for graduation in the State from which the student is projected to graduate.
60 | G | Test | The name of the test the student will have to pass to graduate.
61 | P G | Subject Area | The name of a subject area (e.g., History, English).
COURSE HISTORY INFORMATION (SECONDARY STUDENTS ONLY)
62 | P G | Course Title | The name of a course (e.g., Algebra III, American History, Art I, English III, English-10).
63 | G | Course Type | An indication of the general nature and difficulty of instruction provided throughout a course.
|  |  | 01 Regular (Default)—A course providing instruction (in a given subject matter area) that focuses primarily on general concepts for the appropriate grade level.
|  |  | 02 Honors—An advanced level course designed for students who have earned honors status according to educational requirements.
|  |  | 03 Pre-Advanced Placement—A course in preparation to admission to an AP Program.
|  |  | 04 Advanced Placement—An advanced, college-level course designed for students who achieve specific level of academic performance. Upon successful completion of the course and a standardized Advanced Placement examination, a student may receive college credit.
|  |  | 05 International Baccalaureate—A program of study, sponsored and designed by International Baccalaureate Organization, that leads to examinations and meets the needs of secondary students between the ages of 16 and 19 years.
|  |  | 06 Accepted as a high school equivalent—A secondary-level course offered at an education institution other than a secondary school (such as adult learning center or community college) or through correspondence or distance learning.
|  |  | 07 Not Applicable.
64 | G | Course Year | Calendar year in which the course was taken.
65 | P G | Course Section | The prescribed duration of course taken. 01 Full year. 02 Section A—One of two equal segments into which the course is divided. 03 Section B—One of two equal segments into which the course is divided.
66 | P G | Term Type | The prescribed span of time that a course is provided, and in which students are under the direction and guidance of teachers and/or an educational institution.
|  |  | 01 Full year.
|  |  | 02 Semester—A designation for the segment of a school year that is divided into two equal parts.
|  |  | 03 Trimester—A designation for the segment of a school year that is divided into three equal parts.
|  | Term | 04 Quarter—A designation for the segment of a school year that is divided into four equal parts.
|  |  | 05 Quinmester—A designation for the segment of a school year that is divided into five equal parts.
67 | P G | Grade-to-date | For courses that have NOT been completed (or credit granted), a numerical grade (percentage) of student performance for the grade-to-date that the student has completed at the time of withdrawal.
68 | P | Clock Hours | For courses that have NOT been completed (or credit granted), the number of clock hours to date that the student has completed.
69 | P | Final Grade | For courses that have NOT had credit granted, a final indicator of student performance in a class at the time of withdrawal as submitted by the instructor.
70 | P | Credits Granted | The credits granted in Carnegie units for a given course or a section of a course (e.g., 1.0, .50, .33, .25, .20).
ASSESSMENT INFORMATION
71 | G | Assessment Name | The title or description, including a form number, if any, that identifies a particular assessment.
72 | G | Assessment Type | The category of an assessment based on format and content.
|  |  | 01 Achievement Test/State Assessment—An assessment to measure a student's present level of knowledge, skill, or competence in a specific area or subject.
|  |  | 02 Advanced placement test—An assessment to measure the achievement of a student in a subject matter area, taught during high school, which may qualify him or her to bypass the usual initial college class in this area and begin his or her college work in the area at a more advanced level and possibly with college credit.
|  |  | 03 Language proficiency test—An assessment used to measure a student's level of proficiency (i.e., speaking, writing, reading, and listening) in either a native language or an acquired language.
|  |  | 04 Exit Exam.
|  |  | 05 GED.
|  |  | 06 Special Education Assessment.
|  |  | 07 Early Childhood Development Assessment.
|  |  | Other
73 | G | Assessment Date | The month and year on which an assessment is administered.
74 | G | Assessment Result | A score or statistical expression of the performance of a student on an assessment.
75 | G | Type of Result | The metric in which results are presented. 01 Proficiency level. 02 Percentile rank. 03 Pass/Fail (if failed enter numerical score). 04 Normal curve equivalent. 05 Sections that have been successfully completed (e.g., GED).

[FR Doc. 02-14281 Filed 6-6-02; 8:45 am]

BILLING CODE 4000-01-P